SOCIAL SECURITY ADMINISTRATION

[Docket No: SSA-2025-0322]

Agency Information Collection Activities: Proposed Request

The Social Security Administration (SSA) publishes a list of information collection packages requiring clearance by the Office of Management and Budget (OMB) in compliance with Public Law 104-13, the Paperwork Reduction Act of 1995, effective October 1, 1995. This notice includes one new information collection, and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA.

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0322] in your submitted response.

I. The information collections below are pending at SSA. SSA will submit them to OMB within 60 days from the date of this notice. To be sure we consider your comments, we must receive them no later than November 3, 2025. Individuals can obtain copies of the collection instrument by writing to the above email address.

1. Ticket to Work Program Evaluation—0960-NEW. In compliance with the Ticket to Work Incentives Improvement Act if 1999 (Pub. L. 106-170), Section 101(d)(4)(A), SSA is contracting with Mathematica to conduct an independent evaluation to assess (1) the effects of the program on work outcomes and self-sufficiency, and (2) their cost effectiveness.

Background

The Ticket Act established supports designed to increase the availability of and access to employment services for adults with disabilities receiving Social Security Disability Insurance (SSDI) or Supplemental Security Income (SSI), hereafter referred to as Ticketholders.¹ Among the supports created by the Ticket Act were three programs:

¹ Throughout this document, “Ticketholders” broadly refers to working-age disabled SSI and SSDI beneficiaries who are eligible for services created by the Ticket Act.

• Ticket To Work (TTW). The TTW program established an alternative system for providing employment services to disabled SSI recipients and SSDI beneficiaries. Under TTW, Ticketholders can obtain vocational rehabilitation, employment services, or other support services from SSA-approved Employment Networks (ENs) or state vocational rehabilitation (VR) agencies. SSA pays ENs or VR agencies if the Ticketholders they serve work and earn above specified amounts.

• Work Incentives Planning and Assistance (WIPA). SSA awards cooperative agreements to community-based organizations to provide expertise and counseling that helps disabled SSI recipients and SSDI beneficiaries understand how their earnings affect their disability benefits, with a goal of helping beneficiaries successfully transition to work.

• Protection and Advocacy for Beneficiaries of Social Security (PABSS). SSA awards grants to Protection & Advocacy (P&A) agencies in states, territories, and tribal communities to provide legal-based advocacy services for SSI and SSDI beneficiaries who want to work. PABSS grantees offer services to help remove barriers to employment, including helping beneficiaries secure TTW and other employment-related services; helping beneficiaries understand issues with their disability benefits; and helping to protect beneficiaries' legal rights to employment, transportation, and housing.

Purpose of the Evaluation

To comply with Public Law 106-170, the evaluation will document the extent to which Ticket Act programs are effective, meaning that they achieve their legislative intent: to allow individuals with disabilities to seek the services necessary to obtain and retain employment and reduce their dependency on cash benefit programs. The evaluation findings on these components will support SSA's understanding of:

(1) Whether the programs achieve their legislative intent;

(2) The factors contributing to this achievement or lack thereof, and

(3) Opportunities for improvement of the programs' efficiency and effectiveness.

The evaluation will also document the cost effectiveness of Ticket Act programs as currently structured, identifying opportunities to deliver the same outcomes at lower costs or improve outcomes with additional investments.

As SSA implemented many changes to the Ticket Act programs since our last comprehensive evaluation in 2013, we are also conducting this evaluation to assess these revisions to the programs, including:

• The increased prevalence of remote service delivery, which makes services more broadly available to Ticketholders, but may reduce the effectiveness of services offered.

• Changes to the number of ENs and VR agencies participating in the program, as well as changes to the types of services they offer. These changes may affect the overall effectiveness of the program.

• Revisions that changed the programs' operations, for instance the implementation of electronic submissions, which may also affect the overall effectiveness of the program.

• Investment in a marketing program to support EN outreach, which may have affected the overall use of the TTW program.

We expect this comprehensive evaluation will provide updated information regarding: (1) the ability of the Ticket Programs to achieve their legislative intent; and (2) the evidence base necessary to determine the need for potential programmatic changes or other proposals to maximize program effectiveness.

The Evaluation Methods

SSA contracted with Mathematica to conduct the evaluation; however, SSA will oversee all data collection activities. The evaluation will utilize the following data collection efforts:

• Surveys of the Ticket Act service providers (“provider surveys”): Mathematica will field three concurrent surveys, each focusing on a specific type of Ticket Act service provider. The surveys will ask about provider decisions to participate in the program, provider decisions about service provision, and about challenges that ENs and VR agencies face in effectively serving beneficiaries. Mathematica will invite one person from each EN, VR agency, WIPA project, and P&A agency with a PABSS grant (572 organizations) to respond as a representative on behalf of the organization.² Each organization's representative will complete an interview via a self-administered online survey.

² Numbers of provider organizations as of 2024. To the extent that the universe of service providers changes between the time of drafting of this document and the survey fielding period, we will field the survey to the population of services providers as of a date as close to the beginning of survey fielding as practicable.

• Qualitative interviews with Ticketholders (“qualitative data collection”): Mathematica will conduct interviews with Ticketholders to provide a platform for open-ended, guided discussions in which interviewees can share their experiences with the Ticket Act programs, including their ability to find a provider at all; find a provider who could meet their employment service needs; and experiences with services affecting their employment outcomes. We expect these interview findings will help assess the extent to which Ticket Act programs are working effectively and efficiently and what opportunities may be available to improve the achievement of program outcomes. Mathematica will use existing SSA records to select a random sample of Ticketholders and invite them to participate in interviews. These interviews will be voluntary, and Mathematica will administer them over a four-month period.

Mathematica will conduct these surveys and interviews using a mix of online and telephone processes as well as computer-based management tools for streamlining recruitment and scheduling, ensuring clear documentation for each interview or survey and for recording the data.

The Respondents are service providers for the Ticket to Work program, specifically one staff member from each EN, state VR, WIPA project and P&A agency with a PABSS grant (“Providers”), as well as Ticketholders.

Type of Request: Request for a new information collection.

Modality of completion | Number of respondents | Frequency of response | Average burden per response (minutes) | Total annual burden (hours) * | Average theoretical hourly cost ** | Total estimated annual opportunity cost ***
Provider surveys
TTW survey | 353 | 1 | 38 | * 224 | ** $40.10 | *** $8,982
WIPA survey | 59 | 1 | 38 | * 37 | ** 40.10 | *** 1,483
PABSS survey | 46 | 1 | 28 | * 21 | ** 40.10 | *** 842
Subtotal—surveys | 458 |  |  | * 282 |  | *** 11,307
Qualitative interviews
Ticketholder: TTW users | 70 | 1 | 51 | * 60 | ** 16.22 | *** 973
Ticketholder: TTW non-users | 10 | 1 | 41 | * 7 | ** 16.22 | *** 114
Ticketholder: WIPA users | 20 | 1 | 51 | * 17 | ** 16.22 | *** 276
Subtotal—qualitative interviews | 100 |  |  | 84 |  | *** 1,363
Totals
Surveys | 458 |  |  | * 282 |  | *** 11,307
Qualitative interviews | 100 |  |  | * 84 |  | *** 1,363
Total | 558 |  |  | * 366 |  | *** 12,670
* To show annual burden, we multiplied the number of respondents by the number of responses annually by the average respondent burden per response. We allocated the number of planned responses by year based on the timing of the provider survey and the planned distribution of the qualitative interviews over the two calendar years.
** Opportunity cost estimates for Ticket Act providers assume a wage rate of $40.10 per hour, the average national wage reported by the Bureau of Labor Statistics for the employment category of “Social and Community Service Managers” (accessed at https://www.bls.gov/oes/current/oes119151.htm on October 22, 2024). Opportunity cost estimates for SSA Ticketholders assume a rate of $16.22 per hour, corresponding to the average wage for employed SSDI and SSI beneficiaries in 2019 ($12.92, https://www.ssa.gov/policy/docs/statcomps/nbs/2019/job-characteristics.html) adjusted for inflation using the U.S. Bureau of Labor Statistic's Inflation Calculator (https://www.bls.gov/data/inflation_calculator.htm).
*** This figure does not represent actual costs that SSA will impose on survey respondents or participants in the qualitative interviews. They are theoretical opportunity costs for the time that respondents will spend participating in data collection activities. There is no charge to respondents for participating in data collection activities. We calculated these costs by multiplying the total annual burden in hours by the average theoretical hourly rate. Because the table presents rounded total annual burden hours, this rounding may affect the previsions needed to replicate these estimates. There is no actual charge to respondents to complete the tasks.

2. Application for a Social Security Number (SSN) Card, the Social Security Number Application Process (SSNAP), and Online SSN Application Process (oSSNAP)—20 CFR 422.103-422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration at Birth (EAB) process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. The vast majority of applications for original SSN cards utilize EAB.

Finally, oSSNAP collects information similar to that which we collect on the paper SS-5 for no change situations, with the exception of name change, new or replacement SSN cards for U.S. Citizens (adult and minor children), and replacement cards only for non-U.S. citizens. For certain applicants for SSN replacement cards, the modality allows respondents to complete the application using an internet application and submit the required evidence online rather than completing a paper Form SS-5 [formerly the internet SSN Replacement Card (iSSNRC) application]. oSSNAP also allows applicants for new or replacement SSN cards to start the application process on-line, receive a list of evidentiary documents, and then submit the application data to SSA for further processing by SSA employees. Applicants using oSSNAP in this way then visit a local SSA office to complete the application process.

SSA collects race and ethnicity information as part of the SSN card application process. Response to the race and ethnicity questions is voluntary. The respondents for this information collection are applicants for original and replacement Social Security cards, or individuals who wish to change information in their SSN records, who use any of the modalities described above.

Note: SSA is combining the iSSNRC and oSSNAP screens to streamline these processes for the respondents. Through combining the screens under one application (oSSNAP), respondents can more easily find the electronic process which works best for them to submit their request for a replacement SSN card.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,599,746 | 1 | 10 | 599,958 | * $26.91 |  | *** $16,144,870
oSSNAP Modality
Adult U.S. Citizens requesting a replacement card with no changes using iSSNRC Webservices through oSSNAP | 2,218,960 | 1 | 10 | 369,827 | * 32.66 |  | *** 12,078,550
Adult U.S. Citizens requesting a replacement card with a name change using iSSNRC Webservices through oSSNAP | 37,820 | 1 | 10 | 6,303 | * 32.66 |  | *** 205,856
Adult U.S. Citizens providing information to receive a replacement card through the oSSNAP + | 2,334,386 | 1 | 10 | 389,064 | * 32.66 | ** 23 | *** 41,932,566
Adult U.S. Citizens providing information to receive an original card through the oSSNAP + | 90,952 | 1 | 10 | 15,159 | * 32.66 | ** 23 | *** 1,633,784
Adult Non-U.S. Citizens providing information to receive an original card through the oSSNAP + | 786,589 | 1 | 10 | 131,098 | * 32.66 | ** 23 | *** 14,129,500
Adult Non-U.S. Citizens providing information to receive a replacement card through the oSSNAP + | 214,286 | 1 | 10 | 35,714 | * 32.66 | ** 23 | *** 3,858,028
SSNAP/SS-5 Modality
Respondents who do not have to provide parents' SSNs | 6,764,440 | 1 | 9 | 1,014,666 | * 32.66 | ** 23 | *** 117,827,515
Respondents whom we ask to provide parents' SSNs (when applying for original SSN cards for children under age 12) | 221,751 | 1 | 9 | 33,263 | * 32.66 | ** 23 | *** 3,862,633
Applicants age 12 or older who need to answer additional questions so SSA can determine whether we previously assigned an SSN | 796,688 | 1 | 10 | 132,781 | * 32.66 | ** 23 | *** 14,310,893
Applicants asking for a replacement SSN card beyond the allowable limits (i.e., who must provide additional documentation to accompany the application) | 11,885 | 1 | 60 | 11,885 | * 32.66 | ** 23 | *** 536,963
Enumeration Quality Review
Authorization to SSA to obtain personal information cover letter | + 1 | 1 | 1 | 1 | 1 | 1 | 1
Authorization to SSA to obtain personal information follow-up cover letter | + 1 | 1 | 1 | 1 | 1 | 1 | 1
Grand Total
Totals | 17,077,505 |  |  | 2,739,720 |  |  | *** 226,521,160
+ We are not currently sending out these notices; however, we included 1 hour burden placeholder for these notices, in the event we need to send them out in the near future.
* We based this figure on average Medical Records Specialist, and average U.S. worker's hourly wages as reported by the U.S. Bureau of Labor Statistics (Occupational Employment and Wage Statistics).
** We based this figure on the average FY 2025 wait times for field offices, based on SSA's current management information enumeration data.
*** This figure does not represent actual costs that SSA is imposing on recipients of Social Security payments to complete this application; rather, these are theoretical opportunity costs for the additional time respondents will spend to complete the application. There is no actual charge to respondents to complete the application.

3. Claimant's Work Background—20 CFR 404.1512(a); 404.1520(a)(4); 404.1565(b); 416.912(a); 416.920(a)(4); 416.965(b)—0960-0300. Sections 205(a) and 1631(e) of the Act provide the Commissioner of Social Security with the authority to establish procedures for determining if a claimant is entitled to disability benefits. The administrative law judge (ALJ) may ask individuals to provide background information on Form HA-4633 about work they performed in the past 15 years. When a claimant requests a hearing before an ALJ to establish an entitlement to disability benefits, the ALJ may request that the claimant provide a work history to assist the ALJ in fully inquiring into issues related to the disability. The ALJ uses the information collected from the claimants on Form HA-4633 to: (1) identify the claimant's relevant work history; (2) decide if SSA requires expert vocational testimony and, if so, have a vocational expert available to testify during the hearing; and (3) provide a reference for the ALJ to discuss the claimant's work history. The ALJ makes the completed Form HA-4633 part of the documentary evidence of record. The respondents are claimants for disability benefits under Title II or Title XVI who requested a hearing before an ALJ after SSA denied their application for disability payments.

Note: We are revising the burden for this information collection and updating the Privacy Act and Paperwork Reduction Act Statements to comply with current legal requirements.

Type of Request: Revision of an OMB-approved information collection.

Modality of completion | Number of respondents | Frequency of response | Average burden per response (minutes) | Estimated total annual burden (hours) | Average theoretical hourly cost amount (dollars) * | Total annual opportunity cost (dollars) **
HA-4633 (paper) | 48,450 | 1 | 20 | 16,150 | * $13.30 | ** $214,795
Electronic Records Express Submissions | 236,550 | 1 | 20 | 78,850 | * 32.66 | ** 275,241
Totals | 285,000 |  |  | 142,500 |  | *** 490,036
* We based these figures on average DI hourly wages based on SSA's current FY 2024 SSI data (https://www.ssa.gov/legislation/2024FactSheet.pdf), and on average U.S. citizen's hourly salary, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

4. Disability Update Report—20 CFR 404.1589-404.1595 and 416.988-416.996—0960-0511. As part of our statutory requirements, SSA periodically uses Form SSA-455, the Disability Update Report, to evaluate current Title II disability beneficiaries' and Title XVI disability payment recipients' continued eligibility for Social Security disability payments. Specifically, SSA uses the form to determine if: (1) there is enough evidence to warrant referring the respondent for a full medical Continuing Disability Review (CDR); (2) the respondent's impairments are still present and indicative of no medical improvement, precluding the need for a CDR; or (3) the respondent has unresolved work-related issues. SSA mails Form SSA-455 to specific disability recipients, whom we select as possibly qualifying for the CDR process. SSA pre-fills the form with data specific to the disability recipient, except for the sections we ask the recipients to complete. When SSA receives the completed form, we scan it into SSA's system. This allows us to gather the information electronically, and enables SSA to process the returned forms through automated decision logic to decide the proper course of action to take. The respondents are recipients of Title II and Title XVI Social Security disability payments.

Note: SSA is updating the Privacy Act and Paperwork Reduction Act Statements on these forms to comply with current legal requirements.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-455 (mail-in) | 1,049,176 | 1 | 15 | 262,294 | * $13.30 |  | *** $3,488,510
SSA-455 (electronic online process) | 89,104 | 1 | 15 | 22,276 | * 13.30 |  | *** 296,271
Telephone Interview Process | 100 | 1 | 15 | 25 | * 13.30 | ** 180 | *** 4,325
Totals | 1,138,380 |  |  | 284,595 |  |  | *** 3,789,106
* We based this figure on average DI payments based on SSA's current FY 2024 data (https://www.ssa.gov/legislation/2024FactSheet.pdf).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

Dated: August 28, 2025.
Mark Steffensen,
General Counsel, Deputy Commissioner for Law and Policy, Social Security Administration.

[FR Doc. 2025-16848 Filed 9-2-25; 8:45 am]

BILLING CODE 4191-02-P